CONSUMER PRODUCT SAFETY COMMISSION

Petition Requesting Performance Standards for Auxiliary Hazard Lighting Systems for Snowmobiles

AGENCY: Consumer Product Safety Commission.

ACTION: Notice.

SUMMARY: The Commission has received a petition (CP 02-2) requesting that the Commission issue performance standards for auxiliary hazard lighting systems for snowmobiles. The Commission solicits written comments concerning the petition.

DATES: The Office of the Secretary must receive comments on the petition by July 1, 2002.

ADDRESSES: Comments on the petition, preferably in five copies, should be mailed to the Office of the Secretary, Consumer Product Safety Commission, Washington, DC 20207, telephone (301) 504-0800, or delivered to the Office of the Secretary, Room 501, 4330 East-West Highway, Bethesda, Maryland 20814. Comments may also be filed by facsimile to (301) 504-0127 or by e-mail to cpsc-os@cpsc.gov. Comments should be captioned “Petition CP 02-2, Petition for Performance Standards for Auxiliary Hazard Lighting Systems for Snowmobiles.” A copy of the petition is available for inspection at the Commission's Public Reading Room, Room 419, 4330 East-West Highway, Bethesda, Maryland. The petition is also available on the CPSC website at www.cpsc.gov.

FOR FURTHER INFORMATION CONTACT: Rockelle Hammond, Office of the Secretary, Consumer Product Safety Commission, Washington, DC 20207; telephone (301) 504-0800, ext. 1232.

SUPPLEMENTARY INFORMATION: The Commission has received correspondence from Snow Glow® Inc. requesting that the Commission issue a rule prescribing performance standards for auxiliary hazard lighting systems on snowmobiles. The petitioner asserts that snowmobiles without such auxiliary hazard lighting systems pose an increased risk of collision between snowmobiles and serious injury or death to the operator of either snowmobile involved.

The petitioner maintains that auxiliary hazard lighting systems to reduce or eliminate this risk must exhibit the following characteristics: (1) Have an energy power source separate from the main power source of the snowmobile; (2) operate for a minimum of 40 hours at 0 degrees Fahrenheit and function in temperatures of minus 30 degrees Fahrenheit or colder; (3) have an on-off switch that is separate from the main electrical system; (4) emit yellow light from the front of the snowmobile and red from the rear; and (5) have a flashing display visible in unobstructed darkness from at least one half mile distance, from the front and rear of the snowmobile

The Commission is docketing the correspondence as a petition under provisions of the Consumer Product Safety Act (CPSA), 15 U.S.C. 2051-2084.

Interested parties may obtain a copy of the petition by writing or calling the Office of the Secretary, Consumer Product Safety Commission, Washington, DC 20207; telephone (301) 504-0800. The petition is available on the CPSC website at www.cpsc.gov. A copy of the petition is also available for inspection from 8:30 a.m. to 5 p.m., Monday through Friday, in the Commission's Public Reading Room, Room 419, 4330 East-West Highway, Bethesda, Maryland.

Dated: April 25, 2002.
Todd A. Stevenson, Secretary,
Consumer Product Safety Commission.

[FR Doc. 02-10635 Filed 4-29-02; 8:45 am]

BILLING CODE 6355-01-P